DEPARTMENT OF COMMERCE

National Oceanic and Atmospheric Administration

[I.D. 041503C]

Marine Mammals; File No. 881-1709

AGENCY: National Marine Fisheries Service (NMFS), National Oceanic and Atmospheric Administration (NOAA), Commerce.

ACTION: Receipt of application.

SUMMARY: Notice is hereby given that Jo-Ann Mellish, Ph.D., University of Alaska Fairbanks and Alaska SeaLife Center, 301 Railway Avenue, P.O. Box 1329, Seward, Alaska 99664, has applied in due form for a permit to take tissue samples from harbor seals (Phoca vitulina) and northern fur seals (Callorhinus ursinus) for purposes of scientific research.

DATES: Written or telefaxed comments must be received on or before June 2, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: The subject permit is requested under the authority of the Marine Mammal Protection Act of 1972, as amended (MMPA; 16 U.S.C. 1361 et seq.), and the Regulations Governing the Taking and Importing of Marine Mammals (50 CFR part 216).

The applicant requests authorization to collect and receive an unlimited number of tissue samples (including, teeth/bone, blubber, muscle, blood, skin, vibrissae, placenta, fetus, reproductive tracts, stomach and intestinal tracts, heart, liver, lungs, kidney and other vital organs) taken from carcasses of harbor seals and northern fur seals that have died of natural causes or were killed during legal subsistence hunts in Alaska. The purposes of the research are to determine contaminant loads in tissues to study whether exposure to contaminants may be a contributing factor to poor survival and reproduction of these species, and to determine steroid hormone levels in the tissues of these species to develop methods to study the reproductive rate and population structure of marine mammals. Export of tissues to Canada for tissue analyses and to other countries world-wide for future opportunistic research is also proposed. The applicant has requested a five-year permit.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: April 25, 2003.
Stephen L. Leathery,
Chief, Permits, Conservation and Education Division, Office of Protected Resources, National Marine Fisheries Service.

[FR Doc. 03-10801 Filed 4-30-03; 8:45 am]

BILLING CODE 3510-22-S